DEPARTMENT OF COMMERCE

National Oceanic and Atmospheric Administration

Evaluation of National Estuarine Research Reserve; Request for Comments

AGENCY: Office for Coastal Management, National Ocean Service, National Oceanic and Atmospheric Administration, Department of Commerce.

ACTION: Notice of opportunity to comment.

SUMMARY: The National Oceanic and Atmospheric Administration (NOAA), Office for Coastal Management, will hold a public comment period to solicit input on the performance evaluation of the Guana Tolomato Matanzas (GTM) National Estuarine Research Reserve.

DATES: NOAA will consider all written comments received by November 17, 2022.

ADDRESSES: Comments may be submitted to Susie Holst, Evaluator, NOAA Office for Coastal Management, at Susie.Holst@noaa.gov.

Written comments received are considered part of the public record, and the entirety of the comment, including the name of the commenter, email address, attachments, and other supporting materials, will be publicly accessible. Sensitive personal information, such as account numbers or Social Security numbers, should not be included with the comment. Comments that are not responsive or that contain profanity, vulgarity, threats, or other inappropriate language will not be considered.

FOR FURTHER INFORMATION CONTACT: Susie Holst, Evaluator, NOAA Office for Coastal Management, by email at Susie.Holst@noaa.gov or by phone at (978) 225-3420. Copies of the previous evaluation findings, reserve management plan, and reserve site profile may be viewed and downloaded on the internet at http://coast.noaa.gov/czm/evaluations/. A copy of the evaluation notification letter and most recent progress report may be obtained upon request by contacting Susie Holst.

SUPPLEMENTARY INFORMATION: Sections 312 and 315 of the Coastal Zone Management Act (CZMA) require NOAA to conduct periodic evaluations of federally approved national estuarine research reserves. The evaluation process includes holding one or more public meetings, considering written public comments, and consulting with interested Federal, State, and local agencies and members of the public. During the evaluation, NOAA will consider the extent to which the State of Florida has met the national objectives, adhered to the reserve's management plan approved by the Secretary of Commerce, and adhered to the terms of financial assistance under the CZMA. When the evaluation is complete, NOAA's Office for Coastal Management will place a notice in the Federal Register announcing the availability of the Final Evaluation Findings.

Keelin Kuipers,
Deputy Director, Office for Coastal Management, National Ocean Service, National Oceanic and Atmospheric Administration.

[FR Doc. 2022-23807 Filed 11-1-22; 8:45 am]

BILLING CODE 3510-JE-P